DEPARTMENT OF ENERGY

Remediation of the Moab Uranium Mill Tailings, Grand and San Juan Counties, Utah, Draft Environmental Impact Statement; Notice of Availability

AGENCY: Department of Energy.

ACTION: Notice of availability and public hearings.

SUMMARY: The U.S. Department of Energy (DOE) announces the availability of the document, Remediation of the Moab Uranium Mill Tailings, Grand and San Juan Counties, Utah, Draft Environmental Impact Statement (DOE/EIS-0335D) for the Moab, Utah, Uranium Mill Tailings Remedial Action (UMTRA) Project Site, for public comment. The draft environmental impact statement (EIS) analyzes the potential environmental impacts associated with alternatives for remediating contaminated soils, tailings, and ground water at the Moab Uranium Mill Tailings Site (Moab site), Grand County, Utah, and contaminated soils in adjacent public and private properties (vicinity properties) near the Moab site. The draft EIS also contains a Floodplain and Wetlands Assessment.

The Department prepared this draft EIS in accordance with the National Environmental Policy Act of 1969 (NEPA) (42 U.S.C. 4321 et seq.), the Council on Environmental Quality (CEQ) regulations that implement the procedural provisions of NEPA (40 CFR Parts 1500-1508), and the DOE procedures implementing NEPA (10 CFR Part 1021). The U.S. Environmental Protection Agency (EPA) published a notice of availability of the draft EIS in the Federal Register on November 12, 2004 (69 FR 65427), starting a public comment period ending February 18, 2005.

DOE invites the public to comment on the draft EIS and will consider the comments in preparing the final EIS. Written comments must be submitted by February 18, 2005, to ensure consideration. DOE will consider comments submitted after this date to the extent practicable. DOE will conduct four public hearings to present information and receive comments on the draft in Moab, Blanding, White Mesa, and Green River, Utah. DOE will also publish information about the hearings in local Utah newspapers in advance of the hearings. DOE will accept oral and written comments at the public hearings.

DATES: DOE invites comments on the draft EIS, which should be submitted to Don Metzler (see ADDRESSES) by February 18, 2005. DOE will consider comments submitted after that date to the extent practicable. DOE also will conduct four public hearings to present information and receive oral and written comments on the draft EIS. Information about these hearings will also be published in local Utah newspapers in advance of the hearings. The locations, dates, and times for these public hearings are as follows:

1. January 25, 2005, 6 p.m., City Hall Meeting Room, 240 E. Main, Green River, Utah.

2. January 26, 2005, 6 p.m., Archway Inn, 1551 N. Hwy 191, Moab, Utah.

3. January 27, 2005, 10 a.m., Education Building, White Mesa, Utah.

4. January 27, 2005, 6 p.m., College of Eastern Utah Arts and Events Center Auditorium, 639 West 100 South, Blanding, Utah.

ADDRESSES: Requests for further information on the draft EIS, copies of the document, and comments on the draft EIS should be directed to Don Metzler, Moab Federal Project Director, U.S. Department of Energy, 2597 B¾ Road, Grand Junction, Colorado, 81503; facsimile: (970) 248-7636; telephone (970) 248-7612 or toll free at (800) 637-4575; or e-mailed to: moabcomments@gjo.doe.gov. Additional information can also be obtained from the EIS Web site: http://www.gj.em.doe.gov/moab/. For information or instructions on how to record comments call (800) 637-4575.

FOR FURTHER INFORMATION CONTACT: For general information on the Office of Environmental Management's (EM) NEPA process, please contact Mr. Don Metzler, Moab Federal Project Director, at the address or phone numbers listed above, or Steven A. Frank, Office of Environmental Management NEPA Compliance Officer, U.S. Department of Energy, 1000 Independence Avenue, SW., Washington, DC 20585; telephone (202) 586-7478.

For information regarding the DOE NEPA process, please contact: Carol M. Borgstrom, Director, Office of NEPA Policy and Compliance (EH-42), U.S. Department of Energy, 1000 Independence Avenue, SW., Washington, DC 20585, Telephone: (202) 586-4600, or leave a message at (800) 472-2756.

SUPPLEMENTARY INFORMATION:

Alternatives Considered

Remediation alternatives for the disposal of surface contamination include on-site disposal of the mill tailings at their current location in Moab, Utah; and three off-site disposal alternatives in Utah: Klondike Flats, near Moab; Crescent Junction, near the town of Crescent Junction and about 20 miles east of the town of Green River; and the White Mesa Mill within a few miles of the towns of Blanding and White Mesa and the Ute Mountain Ute Indian Reservation. The draft EIS considers three modes of transporting the mill tailings to the off-site alternatives: truck, rail, and slurry pipeline. In addition, the draft EIS evaluates active ground water remediation to eliminate the potential ongoing impacts to aquatic species in the Colorado River resulting from the discharge of contaminated ground water into the river.

In accordance with NEPA requirements, the draft EIS also analyzes, for comparative purposes, a No Action alternative. Under the No Action alternative, DOE would cease the active management that DOE currently provides of the mill tailings currently stored on-site. Discharge of contaminated ground water into the Colorado River would continue under the No Action alternative.

DOE has not yet identified a preferred alternative. DOE will consider the analyses provided in the EIS as well as comments on the document in determining its preferred alternative, which will be identified in the final EIS.

Distribution and Availability of the Draft EIS

Copies of the draft EIS were distributed to Members of Congress, Federal, State, and Indian tribal governments, local officials, persons, agencies, and organizations who have expressed an interest in the EIS process. Copies of the draft EIS may also be requested as indicated previously in the ADDRESSES and FOR FURTHER INFORMATION CONTACT sections of this notice. The draft EIS is available electronically on the Internet at http://www.gj.em.doe.gov/moab/, and is also available on the DOE NEPA Web site at http://www.eh.doe.gov/nepa/. Copies of the draft EIS have been placed in the Grand County Public Library, Blanding Branch Library, and the White Mesa Ute Administrative Building, and in the DOE Public Reading Room in Grand Junction, Colorado. Copies may also be requested by contacting DOE toll free at 1-800-637-4575.

Addresses of Public Reading Rooms and Libraries:

Grand County Library, 25 South 100 East, Moab, Utah, (435) 259-5421. Library hours: 9 a.m. to 9 p.m. Monday through Friday, 10 a.m. to 6 p.m. Saturday, Closed Sunday.

Blanding Branch Library, 25 West 300 South, Blanding, Utah, (435) 678-2335. Library hours: Noon to 7 p.m. Monday through Thursday, 2 to 6 p.m. Friday, 10 a.m. to 2 p.m. Saturday.

White Mesa Ute Administrative Building (off U.S. Highway 191), White Mesa, Utah, (435) 678-3397.

Reading Room hours: 8 a.m. to 4:30 p.m. Monday through Friday, Closed weekends.

The DOE Freedom of Information Act Office and Reading Room, Room 1E-190, 1000 Independence Ave, SW., Washington, DC 20585, (202) 586-3142.

Public Hearings: DOE will conduct four public hearings on the draft EIS (see DATES above).

Issued in Washington, DC, on November 30, 2004.
Dr. Inés Triay,
Deputy Chief Operating Officer.

[FR Doc. 04-26627 Filed 12-2-04; 8:45 am]

BILLING CODE 6450-01-P